DEPARTMENT OF HEALTH AND HUMAN SERVICES

Centers for Disease Control and Prevention

Notice of Closed Meeting; Correction

Notice is hereby given of a change in the meetings of the Disease, Disability, and Injury Prevention and Control Special Emphasis Panel (SEP)—GH14-002, Addressing Emerging Infectious Diseases in Bangladesh; GH16-003, Conducting Public Health Research in Thailand: Technical collaboration with the Ministry of Public Health in the Kingdom of Thailand (MOPH); GH16-006, Conducting Public Health Research in Kenya; GH17-005, Conducting Public Health Research in China; April 10, 2018, 9:00 a.m.-2:00 p.m., EDT, which was published in the Federal Register on March 20, 2018, Volume 83, Number 54, pages 12193-12194, and the Disease, Disability, and Injury Prevention and Control Special Emphasis Panel (SEP)—GH18-002, Strengthening detection of emerging infectious diseases in India; GH18-005, Enhancing Capacity for Strategic and Applied Research Activities in Support of Control and Elimination of Malaria and Neglected Tropical Diseases; April 18, 2018, 9:00 a.m.-2:00 p.m., EDT, which was published in the Federal Register on March 20, 2018, Volume 83, Number 54, page 12194.

The title, date and time should read as follows:

Name of Committee: Disease, Disability, and Injury Prevention and Control Special Emphasis Panel (SEP)—GH14-002, Addressing Emerging Infectious Diseases in Bangladesh; GH16-003, Conducting Public Health Research in Thailand: Technical collaboration with the Ministry of Public Health in the Kingdom of Thailand (MOPH); GH16-006, Conducting Public Health Research in Kenya; GH17-005, Conducting Public Health Research in China; GH18-002, Strengthening detection of emerging infectious diseases in India; GH18-005, Enhancing Capacity for Strategic and Applied Research Activities in Support of Control and Elimination of Malaria and Neglected Tropical Diseases.

Date: May 2, 2018.

Time: 9:00 a.m.-2:00 p.m., EDT.

Place: Teleconference.

For Further Information Contact: Hylan Shoob, Ph.D., Scientific Review Officer, Center for Global Health, CDC, 1600 Clifton Drive, Atlanta, GA 30331, telephone (404) 639-4796; email HShoob@cdc.gov.

The Director, Management Analysis and Services Office, has been delegated the authority to sign Federal Register notices pertaining to announcements of meetings and other committee management activities, for both the Centers for Disease Control and Prevention and the Agency for Toxic Substances and Disease Registry.

Elaine Baker,
Director, Management Analysis and Services Office, Centers for Disease Control and Prevention.

[FR Doc. 2018-07835 Filed 4-13-18; 8:45 am]

BILLING CODE 4163-18-P